DEPARTMENT OF VETERANS AFFAIRS

Enhanced-Use Lease (EUL) of Department of Veterans Affairs (VA) Real Property for the Development of Permanent Supportive Housing at the Greater Los Angeles Healthcare System (GLAHS)—MacArthur A EUL—West Los Angeles (WLA), California Campus

AGENCY: Department of Veterans Affairs.

ACTION: Notice of Intent to Enter into an EUL.

SUMMARY: The purpose of this Federal Register notice is to provide the public with notice that the Secretary of Veterans Affairs intends to enter into an EUL of certain assets identified below on the GLAHS-WLA campus.

FOR FURTHER INFORMATION CONTACT: Brett Simms, Executive Director, Office of Asset Enterprise Management, Office of Management, 810 Vermont Avenue NW, Washington, DC 20420, 202-502-0262. This is not a toll-free number.

SUPPLEMENTARY INFORMATION: Pursuant to 38 U.S.C. 8161-8169 and the West Los Angeles Leasing Act of 2016, Public Law 114-226, as amended, the Secretary of Veterans Affairs is authorized to enter into an EUL for a term of up to 99 years on the GLAHS-WLA campus for the provision of supportive housing, if the lease is not inconsistent with and will not adversely affect the mission of VA. Consistent with this authority, the Secretary intends to enter into an EUL for the purpose of outleasing MacArthur Field, consisting of approximately 2.72 acres of land on the GLAHS-WLA campus, to develop 75 units of permanent supportive housing for Veterans and their families. The competitively selected EUL lessee/developer, MacArthur A, LP, will finance, design, develop, construct, manage, maintain and operate permanent supportive housing for eligible homeless Veterans or Veterans-at-risk of homelessness and their families on a priority placement basis. The housing will be developed over the next 2 years, consistent with the GLAHS-WLA Master Plan 2022. Additionally, the lessee/developer will be required to provide supportive services that guide Veteran residents towards long-term independence and self-sufficiency.

Signing Authority: Denis McDonough, Secretary of Veterans Affairs, approved this document on October 5, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-22112 Filed 10-11-22; 8:45 am]

BILLING CODE 8320-01-P